DEPARTMENT OF AGRICULTURE

Animal and Plant Health Inspection Service

[Docket No. APHIS-2011-0047]

Notice of Decision To Authorize the Importation of Dragon Fruit From Thailand Into the Continental United States

AGENCY: Animal and Plant Health Inspection Service, USDA.

ACTION: Notice.

SUMMARY: We are advising the public of our decision to authorize the importation into the continental United States of dragon fruit (multiple genera and species) from Thailand. Based on the findings of a pest risk analysis, which we made available to the public for review and comment through a previous notice, we believe that the application of one or more designated phytosanitary measures will be sufficient to mitigate the risks of introducing or disseminating plant pests or noxious weeds via the importation of dragon fruit from Thailand.

DATES: Effective Date: October 4, 2011.

FOR FURTHER INFORMATION CONTACT: Ms. Claudia Ferguson, Regulatory Policy Specialist, Regulations, Permits, and Manuals, PPQ, APHIS, 4700 River Road Unit 133, Riverdale, MD 20737-1236; (301) 734-0754.

SUPPLEMENTARY INFORMATION:

Background

Under the regulations in “Subpart—Fruits and Vegetables” (7 CFR 319.56-1 through 319.56-51, referred to below as the regulations), the Animal and Plant Health Inspection Service (APHIS) of the U.S. Department of Agriculture prohibits or restricts the importation of fruits and vegetables into the United States from certain parts of the world to prevent plant pests from being introduced into and spread within the United States.

Section 319.56-4 of the regulations contains a performance-based process for approving the importation of commodities that, based on the findings of a pest risk analysis (PRA), can be safely imported subject to one or more of the designated phytosanitary measures listed in paragraph (b) of that section. Under that process, APHIS publishes a notice in the Federal Register announcing the availability of the PRA that evaluates the risks associated with the importation of a particular fruit or vegetable. Following the close of the 60-day comment period, APHIS may authorize the importation of the fruit or vegetable subject to the identified designated measures if: (1) No comments were received on the PRA; (2) the comments on the PRA revealed that no changes to the PRA were necessary; or (3) changes to the PRA were made in response to public comments, but the changes did not affect the overall conclusions of the analysis and the Administrator's determination of risk.

In accordance with that process, we published a notice ¹ in the Federal Register on June 30, 2011 (76 FR 38349, Docket No. APHIS-2011-0047), in which we announced the availability, for review and comment, of a PRA that evaluates the risks associated with the importation into the continental United States of dragon fruit (multiple genera and species) from Thailand. We solicited comments on the notice for 60 days ending on August 29, 2011. We did not receive any comments by that date.

¹ To view the notice and the PRA, go to http://www.regulations.gov/#!docketDetail;D=APHIS-2011-0047.

Therefore, in accordance with the regulations in § 319.56-4(c)(2)(ii), we are announcing our decision to authorize the importation into the continental United States of dragon fruit from Thailand subject to the following phytosanitary measures:

• The dragon fruit may be imported into the continental United States in commercial consignments only.

• The dragon fruit must be irradiated in accordance with 7 CFR part 305 with a minimum absorbed dose of 400 Gy.

• If the irradiation treatment is applied outside the United States, each consignment of fruit must be jointly inspected by APHIS and the national plant protection organization (NPPO) of Thailand and accompanied by a phytosanitary certificate (PC) attesting that the fruit received the required irradiation treatment.

• If the irradiation treatment is to be applied upon arrival in the United States, each consignment of fruit must be inspected by the NPPO of Thailand prior to departure and accompanied by a PC.

• This commodity is subject to inspection at the U.S. port of entry.

These conditions will be listed in the Fruits and Vegetables Import Requirements database (available at http://www.aphis.usda.gov/favir). In addition to these specific measures, dragon fruit from Thailand will be subject to the general requirements listed in § 319.56-3 that are applicable to the importation of all fruits and vegetables. Further, for fruits and vegetables requiring treatment as a condition of entry, the phytosanitary treatments regulations in 7 CFR part 305 contain administrative and procedural requirements that must be observed in connection with the application and certification of specific treatments.

Authority: 7 U.S.C. 450, 7701-7772, and 7781-7786; 21 U.S.C. 136 and 136a; 7 CFR 2.22, 2.80, and 371.3.

Done in Washington, DC, this 28th day of September 2011.
Kevin Shea,
Acting Administrator, Animal and Plant Health Inspection Service.

[FR Doc. 2011-25489 Filed 10-3-11; 8:45 am]

BILLING CODE 3410-34-P